DEPARTMENT OF VETERANS AFFAIRS

[OMB Control No. 2900-0589]

Agency Information Collection Activity Under OMB Review: Department of Veterans Affairs Acquisition Regulation (VAAR) Clause 852.246-76, Purchase of Shellfish (Formerly 852.270-3)

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Comments must be submitted on or before March 8, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0589” in any correspondence.

FOR FURTHER INFORMATION CONTACT: Rafael Taylor, Procurement Policy and Warrant Management Service (003A2A), Department of Veterans Affairs, 425 I Street NW, Washington, DC 20001, (202) 382-2787 or email Rafael.Taylor@va.gov. Please refer to “OMB Control No. 2900-0589” in any correspondence.

SUPPLEMENTARY INFORMATION:

Authority: Under the PRA of 1995 (Pub. L. 104-13; 44 U.S.C. 3501-3521).

Title: Department of Veterans Affairs Acquisition Regulation (VAAR) Clause 852.246-76, Purchase of Shellfish, (formerly 852.270-3).

OMB Control Number: 2900-0589.

Type of Review: Revision of a currently approved collection.

Abstract: As of the result of final rule RIN 2900-AQ04, VA Acquisition Regulation, this Paperwork Reduction Act submission seeks modification of Office of Management and Budget (OMB) approval No. 2900-0589 for collection of information for both commercial and noncommercial item supply and service solicitations and contracts for the then approved clause 852.270-3, Purchase of Shellfish.

Clause 852.270-3 was moved to a new section and renumbered as 852.246-76 to conform to the FAR requirement to place clauses and their prescriptions in the appropriate parts. The title and content of the clause remain unchanged. There is no change in the information collection burden that is associated with this proposed modification of the information collection request. In the final rule RIN 2900-AQ04, VA provided a 60-day comment period for the public to respond to the proposed rule. The comment period for the proposed rule ended on June 25, 2018 and VA received no comments. The VA adopted as final the rule effective on October 24, 2018, thus necessitating the modification of the information collection request.

An agency may not conduct or sponsor, and a person is not required to respond to a collection of information unless it displays a currently valid OMB control number. The Federal Register Notice with a 60-day comment period soliciting comments on this collection of information was published at 83 FR 45482 on September 11, 2018.

Affected Public: Business or other for-profit and not-for-profit institutions.

Estimated Annual Burden: VAAR clause 852.246-76 (formerly 852.270-3)—0.41 hour.

Estimated Average Burden per Respondent: VAAR clause 852.246-76 (formerly 852.270-3)—1 minute.

Frequency of Response: On occasion.

Estimated Number of Respondents: Clause 852.246-76 (formerly 852.270-3)—25.

By direction of the Secretary.
Danny S. Green,
Interim VA Clearance Officer, Office of Quality, Performance and Risk, Department of Veterans Affairs.

[FR Doc. 2019-01156 Filed 2-5-19; 8:45 am]

BILLING CODE 8320-01-P